SURFACE TRANSPORTATION BOARD

[Docket No. FD 36814]

Raritan Central Railway, LLC—Lease and Operation Exemption—Consolidated Rail Corporation

Raritan Central Railway, LLC (RCRY), a Class III railroad, has filed a verified notice of exemption pursuant to 49 CFR 1150.41, to permit it to operate, pursuant to an amendment to a lease with the Consolidated Rail Corporation (Conrail), approximately 3,000 linear feet of rail line in Middlesex County, NJ.

RCRY was previously authorized to lease from Conrail and to operate 7.08 miles of rail lines, consisting of four segments, all in Middlesex County. Raritan Cent. Ry.—Lease & Operation Exemption—Consol. Rail Corp., FD 36393 (STB served Apr. 3, 2020). RCRY states that under the existing lease, one of the segments, the Raritan Industrial Track (the Raritan I.T.), extends from its connection with the Bonhamton I.T. to the east side of Crows Mill Road, including the at-grade crossing thereof. According to the verified notice, Conrail currently operates on an additional 3,000 feet of rail line beyond the leased segment, and RCRY and Conrail have agreed to amend the lease to extend RCRY's lease and operation of the Raritan I.T. to include that additional 3,000-foot segment. RCRY states that following the amendment, RCRY will provide common carrier service on “the Raritan I.T. from its connection with the Bonhamton I.T. to the west side of Route 440 at [milepost] 20.06.” (RCRY Verified Notice 2 (quoting the lease amendment).)

RCRY certifies that the track lease does not impose or include an interchange commitment. RCRY also certifies that its projected annual revenues as a result of this transaction will not exceed $5 million annually and will not result the creation of a Class II or Class I carrier.

The transaction may be consummated on or after November 30, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than November 22, 2024 (at least seven days before the exemption becomes effective).

All pleadings, referring to Docket No. FD 36814, must be filed with the Surface Transportation Board either via e-filing on the Board's website or in writing addressed to 395 E Street SW, Washington, DC 20423-0001. In addition, a copy of each pleading must be served on RCRY's representative, Eric M. Hocky, Clark Hill PLC, Two Commerce Square, 2001 Market Street, Suite 2620, Philadelphia, PA 19103.

According to RCRY, this action is categorically excluded from environmental review under 49 CFR 1105.6(c) and from historic reporting requirements under 49 CFR 1105.8(b).

Board decisions and notices are available at www.stb.gov.

Decided: November 8, 2024.
By the Board, Scott M. Zimmerman, Acting Director, Office of Proceedings.
Raina White,
Clearance Clerk.

[FR Doc. 2024-26697 Filed 11-14-24; 8:45 am]

BILLING CODE 4915-01-P